FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than June 13, 2006.

A. Federal Reserve Bank of Chicago (Patrick M. Wilder, Assistant Vice President) 230 South LaSalle Street, Chicago, Illinois 60690-1414:

1. Richard N. Glendening, Pella, Iowa, individually and as trustee of the Richard Glendening Trust and the Linda Glendening Subchapter S Trust, and acting in concert with the Glendening Family (Richard and Mary Glendening, Pella, Iowa; Linda Glendening, Pella, Iowa; Kara and Nathan Busker, Oakland, New Jersey; Eric and Sanae Glendening, Terre Haute, Indiana; Erin Glendening, Pittsburgh, Pennsylvania; Brent and Mary Jaco, Galveston, Texas); to retain voting shares of Leighton Investment Company, Pella, Iowa, and thereby indirectly retain voting shares of Leighton State Bank, Pella, Iowa.

B. Federal Reserve Bank of St. Louis (Glenda Wilson, Community Affairs Officer) 411 Locust Street, St. Louis, Missouri 63166-2034:

1. J. Chester Porter, Mount Washington, Kentucky; Spencer Access, LLC, Taylorsville, Kentucky, and the William G. Porter Revocable Trust; William G. Porter, Trustee, Sarasota, Florida, to acquire control of Porter Bancorp, Inc., Louisville, Kentucky, and thereby indirectly acquire control of PBI Bank, Louisville, Kentucky.

C. Federal Reserve Bank of Kansas City (Donna J. Ward, Assistant Vice President) 925 Grand Avenue, Kansas City, Missouri 64198-0001:

1. Phillip Bray, as trustee of the Phillip Bray Trust, Cameron, Missouri, and Gladys Bray as trusteee of the Gladys Bray Trust, Cameron, Missouri, as husband and wife acting in concert; and Kenneth Bray and Margart Bray as co-trustees of the Kenneth Bray and Margaret Bray Trust, Cameron, Missouri, also acting in concert with Phillip and Gladys Bray, to retain voting shares of Farmers Bancshares, Inc., Maysville, Missouri, and thereby indirectly retain voting shares of Independent Farmers Bank, Maysville, Missouri.

Board of Governors of the Federal Reserve System, May 24, 2006.
Jennifer J. Johnson,
Secretary of the Board.

[FR Doc. E6-8244 Filed 5-26-06; 8:45 am]

BILLING CODE 6210-01-S